DEPARTMENT OF AGRICULTURE

Forest Service

Forest Plan Amendments for Grizzly Bear Habitat Conservation for the Greater Yellowstone Area National Forests

AGENCY: Forest Service, USDA.

ACTION: Notice of intent to prepare an environmental impact statement.

SUMMARY: The purpose of this notice is to inform the public that the Forest Service will prepare an environmental impact statement (EIS) to analyze the environmental effects of amendments to land and resource management plans (forest plans) for the Beaverhead, Custer, and Gallatin National Forests located in the state of Montana; the Targhee National Forest located in the states of Idaho and Wyoming; and the Bridger-Teton and Shoshone National Forests located in the state of Wyoming. This notice describes a proposal to amend six forest plans to provide additional programmatic direction for management of grizzly bear habitat security, developed sites, and livestock within the Grizzly Bear Recovery Area.

DATES: Comments concerning the scope of the analysis must be received on or before August 15, 2003. The agency expects to file a draft EIS with the Environmental Protection Agency (EPA) and make it available for public, agency, and tribal government comment in October 2003. The final environmental impact statement is expected to be filed in February 2004.

ADDRESSES: Send written comments to Dave Cawrse, Team Leader, Grizzly Bear Habitat Amendments, Shoshone National Forest, 808 Meadow Lane Avenue, Cody, WY 82414-4549.

FOR FURTHER INFORMATION CONTACT: Dave Cawrse, Team Leader, telephone (307) 527-6241.

SUPPLEMENTARY INFORMATION: Pursuant to 16 U.S.C. 1604(f)(4) and 36 CFR 219.10(f), the Forest Supervisors give notice that the USDA Forest Service is beginning an environmental analysis and decision making process for this Proposed Action so that interested or affected people can participate in the analysis and contribute to the final decision. The Forest Service is seeking comments from individuals, organizations, tribal governments, and federal, state, and local agencies who are interested in or may be affected by the Proposed Action. The public is invited to help identify issues and define the range of alternatives to be considered in the environmental impact statement. Written comments identifying issues for analysis and the range of alternatives are encouraged.

Purpose and Need for Action

The management of grizzly bear habitat on national forests in the GYA (Greater Yellowstone Area) is a dynamic process. Experience provides the public and land managers with new understanding and insights regarding the conservation of grizzly bear habitat. Scientific research continues to bring forth new theories, observations, and findings relevant to the management of these resources. This learning is continuous. Most importantly, the Yellowstone grizzly bear population has increased over the past 25 years. As a result, the U.S. Fish and Wildlife Service intends to review the status of the Yellowstone grizzly bear population under the Endangered Species Act.

The forest plans for the GYA national forests were approved at various times between 1986 and 1997. Since their approval, the Forest Service has amended these plans. A few of these amendments relate directly to the management of grizzly bear habitat. As a result, existing forest plan direction regarding grizzly bear habitat management varies between six GYA national forests. In addition, the age of forest plan direction regarding grizzly bear habitat management varies from forest to forest.

There is a need to improve the coordination and consistency of forest plan direction in the GYA regarding grizzly bear habitat management, and to update this direction to reflect new management insight, the latest scientific information, and the changing characteristics of the Yellowstone grizzly bear population. Direction for managing the grizzly bear was recently developed through a nine-year inter-agency effort documented in the “Final Conservation Strategy for The Grizzly Bear in the Greater Yellowstone Area” (“Conservation Strategy”). This “Conservation Strategy” was developed to be the document guiding management and monitoring for the Yellowstone grizzly bear population and its habitat upon recovery and delisting. Additionally, there is a need to clarify the applicability of forest plan grizzly bear habitat management direction if there is a change in the Yellowstone grizzly bear population's status under the Endangered Species Act, and to ensure the long-term recovery and conservation of Yellowstone grizzly bears regardless of their listing as a threatened species under the Endangered Species Act.

There is a need for national forests in the GYA to maintain or improve habitat conditions as of 1998, as measured within each subunit within the Recovery Area, while maintaining options for resource management activities at approximately the same level as existed in 1998. The grizzly population achieved all demographic recovery goals by 1998 with this management regime in place.

The purpose of these amendments is to (1) ensure conservation of habitat within the Recovery Area to support continued recovery of the grizzly bear population, (2) update the management and monitoring of grizzly bear habitat to incorporate recent interagency recommendations and agreements, and (3) provide consistency among Greater Yellowstone Area national forests in managing and monitoring grizzly bear habitat.

Proposed Action

The Forest Service proposes to amend the forest plans for the Beaverhead, Bridger-Teton, Custer, Gallatin, Shoshone, and Targhee National Forests to provide additional programmatic direction for management of grizzly bear habitat security, developed sites, and livestock grazing within the Grizzly Bear Recovery Area. The Proposed Action includes a forest-wide goal, standards, and monitoring requirements. The forest-wide goal promotes the continued recovery of the Yellowstone grizzly bear population. Forest-wide standards are (1) maintain secure habitat at 1998 levels through management of motorized access routes, with short-term deviations allowed under specific conditions, (2) do not exceed the number of commercial livestock allotments and the number of permitted domestic sheep Animal Months (AMs) from the 1998 level, and (3) manage developed sites at 1998 levels, with some exceptions for administrative and maintenance needs.

All standards apply only to the Recovery Area. Monitoring requirements in the Proposed Action include monitoring adherence to the above standards and monitoring changes in motorized access route density and habitat effectiveness.

Possible Alternatives

A range of alternatives that responds to issues developed during scoping will be considered. A reasonable range of alternatives will be evaluated and reasons will be given for eliminating some alternatives from detailed study, if that occurs. A no action alternative (forest plans would not be amended) will be considered. Written comments on the range of alternatives and their effects will be requested and considered with the draft EIS is released.

Responsible Officials

The Responsible Officials for this decision will be Thomas Reilly, Forest Supervisor, Beaverhead-Deerlodge National Forest, 420 Barrett Street, Dillon, MT 59725-5372; Nancy Curriden, Forest Supervisor, Custer National Forest, 1310 Main Street, Billings, MT 59105-1786; Becki Heath, Forest Supervisor, Gallatin National Forest, PO Box 130, Bozeman, MT 59771-0130; Jerry Reese, Forest Supervisor, Caribou-Targhee National Forest, 1405 Hollipark Drive, Idaho Falls, ID 83401-2100; Kniffy Hamilton, Forest Supervisor, Bridger-Teton National Forest, PO Box 1888, Jackson, WY 83001-1888; and Rebecca Aus, Forest Supervisor, Shoshone National Forest, 808 Meadow Lane Avenue, Cody, WY 82414-4549. Rebecca Aus has been delegated the authority to direct the preparation of the environmental analysis.

Scoping Process

Public participation will be solicited by notifying people by mail. The first formal opportunity to comment is during the scoping process, which begins with the issuance of this notice of intent. Comments concerning the scope of the analysis must be received on or before 30 days after publication of this notice in the Federal Register. All comments, including the names and addresses when provided, will be placed in the record and will be available for public inspection and copying at the Shoshone National Forest Supervisor's Office, 808 Meadow Lane Avenue, Cody, WY. The Forest Service will work with tribal governments to address issues concerning Indian tribal self-government and sovereignty, natural and cultural resources held in trust, Indian tribal treaty and Executive Order rights, and any issues that significantly or uniquely affect their communities.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this Proposed Action participate by the close of the 45-day comment period so that substantive comments and objections are made available to the Forest Service at a time when it can meaningfully consider them and respond to them in the final environmental impact statement.

To assist the Forest Service in identifying and considering issues and concerns on the Proposed Action, comments on the draft environmental impact statement should be as specific as possible. It is also helpful if comments refer to specific pages or chapters of the draft statement. Comments may also address the adequacy of the draft environmental impact statement on the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: July 20, 1003.
Rebecca Aus,
Forest Supervisor.

[FR Doc. 03-17941 Filed 7-15-03; 8:45 am]

BILLING CODE 3410-11-M